FEDERAL COMMUNICATIONS COMMISSION

[DA 00-878]

747-762 and 777-792 MHz Band Pre-Auction Seminar Monday, April 24, 2000

AGENCY: Federal Communications Commission.

ACTION: Notice.

SUMMARY: This document announces a free pre-auction seminar scheduled for Monday, April 24, 2000. This seminar will provide information about pre-auction procedures, service and auction rules, conduct of the auction, and the FCC remote bidding software.

DATES: April 24, 2000.

FOR FURTHER INFORMATION CONTACT: Kathy Garland of the Auctions Operations Branch at (717) 338-2888, or for Press Inquiries, Meribeth McCarrick at (202) 418-0654.

SUPPLEMENTARY INFORMATION: This is a summary of a Public Notice released April 18, 2000. The complete text of the public notice, including the registration form, is available for inspection and copying during normal business hours in the FCC Reference Center (Room CY-A257), 445 12th Street, SW, Washington, DC. It may also be purchased from the Commission's copy contractor, International Transcription Services, Inc. (ITS, Inc.) 1231 20th Street, NW, Washington, D.C. 20036, (202) 857-3800. It is also available on the Commission's web site at http://www.fcc.gov.

1. The free seminar for the 747-762 and 777-792 MHz Band Auction (Auction No. 31) is scheduled for Monday, April 24, 2000. Interested parties must pre-register using the attached form or by calling the FCC's Auctions Hotline at (888)-225-5322, and select option #2, or (717) 338-2888.

2. The seminar will be held at the Federal Communications Commission, 445 12th Street SW, Washington, D.C. Registration will begin at 8:30 a.m. and the program will end by 4 p.m. Potential bidders in the auction are strongly encouraged to attend. This seminar provides an opportunity for hands-on demonstrations of the FCC filing and bidding software and access to the FCC staff responsible for the 700 MHz band licensing and auction conduct procedures.

It is strongly advised that all potential bidders review the public notices released for this auction prior to the seminar.

3. The following is a timeline of the important events prior to the auction start date:

Deadline to register for Pre-Auction Seminar: April 21, 2000, 5:30 p.m. ET

Seminar Date: April 24, 2000

FCC Form 175 Application Deadline: May 8, 2000, 6:00 p.m. ET

Upfront Payment Deadline: May 22, 2000, 6:00 p.m. ET

Orders for Remote Bidding Software: May 23, 2000, 6:00 p.m. ET

Mock Auction: June 2, 2000

Auction Start Date: June 7, 2000

Federal Communications Commission.
Louis J. Sigalos,
Deputy Chief, Auctions and Industry Analysis Division.

[FR Doc. 00-10356 Filed 4-25-00; 8:45 am]

BILLING CODE 6712-01-P